NUCLEAR REGULATORY COMMISSION

[NRC-2020-0104]

Information Collection: NRC Online Form, “Nuclear Materials Relief Requests”

AGENCY: Nuclear Regulatory Commission.

ACTION: Notice of submission to the Office of Management and Budget (OMB) for emergency processing; request for comment.

SUMMARY: The U.S. Nuclear Regulatory Commission (NRC) recently submitted a request for emergency processing to OMB for approval. OMB approved the information collection under approval number 3150-0243. The information collection is entitled, NRC Online Form, “Nuclear Materials Relief Requests.”

DATES: Submit comments by July 6, 2020. Comments received after this date will be considered if it is practical to do so, but the Commission is able to ensure consideration only for comments received on or before this date.

ADDRESSES: You may submit comments by any of the following methods:

• Federal Rulemaking Website: Go to https://www.regulations.gov and search for Docket ID NRC-2020-0104. For technical questions, contact the individual listed in the FOR FURTHER INFORMATION CONTACT section of this document.

• Mail Comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0104 when contacting the NRC about the availability of information for this action. You may obtain publicly-available information related to this action by any of the following methods:

• Federal Rulemaking Website: Go to http://www.regulations.gov and search for Docket ID NRC-2020-0104. A copy of the collection of information and related instructions may be obtained without charge by accessing Docket ID NRC-2020-0104 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML20114E292. The supporting statement is available in ADAMS under Accession No. ML20114E291.

• NRC's Clearance Officer: A copy of the collection of information and related instructions may be obtained without charge by contacting NRC's Clearance Officer, David Cullison, Office of the Chief Information Officer, U.S. Nuclear Regulatory Commission, Washington, DC 20555-0001; telephone: 301-415-2084; email: Infocollects.Resource@nrc.gov.

B. Submitting Comments

Please include Docket ID NRC-2020-0104 in the subject line of your comment submission, in order to ensure that the NRC is able to make your comment submission available to the public in this docket.

The NRC cautions you not to include identifying or contact information in comment submissions that you do not want to be publicly disclosed in your comment submission. The NRC will post all comment submissions at https://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

We are required to publish this notice in the Federal Register under the provisions of the Paperwork Reduction Act of 1995 (44 U.S.C. Chapter 35). In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR 1320.13. We cannot reasonably comply with the normal clearance procedures because as unanticipated event has occurred, as stated in 5 CFR 1320.13(a)(2)(ii).

1. The title of the information collection: NRC Online Form, “Nuclear Materials Relief Requests.”

2. OMB approval number: 3150-0243.

3. Type of submission: New Clearance.

4. The form number, if applicable: Not applicable.

5. How often the collection is required or requested: On Occasion.

6. Who will be required or asked to respond: This information collection applies to holders of nuclear materials licenses (including byproduct material, uranium recovery, decommissioning (both materials and reactors), fuel facilities, and spent fuel storage licenses) who may need to seek regulatory relief during the COVID-19 Public Health Emergency (PHE).

7. The estimated number of annual responses: 470.

8. The estimated number of annual respondents: 470.

9. The estimated number of hours needed annually to comply with the information collection requirement or request: 940

10. Abstract: The NRC requested an emergency review of this information collection in order to obtain the approval of this information collection for a period of 6 months. The purpose of this information collection is to introduce the online form for COVID-19 related Nuclear Materials Relief Requests that simplifies the filing the relief requests described in the following paragraphs because the existing system may be too burdensome for licensees under current conditions.

The U.S. Nuclear Regulatory Commission (NRC) requires licensed facilities to comply with requirements in Title 10 of the Code of Federal Regulations (CFR) as they relate to the safe and secure use of nuclear materials; medical, industrial, and academic applications; uranium recovery activities, low-level radioactive waste sites; and the decommissioning of previously operating nuclear facilities and power plants. These requirements can be found in 10 CFR parts 20, 30, 31, 32, 33, 34, 35, 36, 37, 39, 40, 50, 70, 71, 72, 74, 75, and 150. The ability of licensed facilities to comply with these requirements may be negatively impacted by the Coronavirus Disease 2019 (COVID-19) PHE. To facilitate licensees' requests for exemptions to the requirements in the above regulations, the NRC is providing an online form to submit the required information for a specific exemption request.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated: April 29, 2020.
For the Nuclear Regulatory Commission.
David C. Cullison,
NRC Clearance Officer, Office of the Chief Information Officer.

[FR Doc. 2020-09488 Filed 5-4-20; 8:45 am]

BILLING CODE 7590-01-P